DEPARTMENT OF TRANSPORTATION

Federal Aviation Administration

Notice of Release of Land Affecting Federal Grant Assurance Obligations at Hayward Executive Airport, Hayward, Alameda County, California

AGENCY: Federal Aviation Administration, DOT.

ACTION: Notice of request to release airport land.

SUMMARY: The Federal Aviation Administration (FAA) is considering a proposal and invites public comment to change a portion of the airport from aeronautical use to non-aeronautical use at Hayward Executive Airport (HWD), Hayward, Alameda County, California. The proposal consists of two parcels, containing a total of 3.18 acres of airport land, located southwest of Taxiway Z, between Taxiways Z and C.

These parcels were originally acquired from the federal government as surplus land, via quitclaim deed issued by the War Assets Administration on April 16, 1947. Land adjacent to the parcels was previously released for non-aeronautical revenue generation, for use as a regional fire training facility. The additional two parcels will be leased for non-aeronautical revenue generation, and incorporated into the regional fire training facility. The use of the land for a fire training facility represents a compatible land use that will not interfere with the airport or its operation, thereby protecting the interests of civil aviation. The airport will be compensated for the fair market value of the land.

DATES: Comments must be received on or before March 25, 2020.

FOR FURTHER INFORMATION CONTACT: Comments on the request may be mailed or delivered to the FAA at the following address: Ms. Laurie J. Suttmeier, Manager, San Francisco Airports District Office, Federal Aviation Administration, 1000 Marina Boulevard, Suite 220, Brisbane, California, 94005-1835. In addition, one copy of the comment submitted to the FAA must be mailed or delivered to Mr. Doug McNeeley, Airport Manager, 20301 Skywest Drive, Hayward, California 94541-4699.

SUPPLEMENTARY INFORMATION: In accordance with the Wendell H. Ford Aviation Investment and Reform Act for the 21st Century (AIR 21), Public Law 10-181 (Apr. 5, 2000; 114 Stat. 61), this notice must be published in the Federal Register 30 days before the DOT Secretary may waive any condition imposed on a federally obligated airport by surplus property conveyance deeds or grant agreements.

The following is a brief overview of the request:

The Hayward Executive Airport (HWD) requested a release from the provisions of the Grant Agreement Assurances to permit the non-aeronautical use of approximately 3.18 acres of land at Hayward Executive Airport, Hayward, Alameda County, California, to accommodate the construction of a regional fire training facility. HWD will be compensated for the fair market value for the property. The San Francisco Airports District Office issued a Categorical Exclusion on January 15, 2020, that concluded the construction of the regional fire training center and associated land release were categorically excluded from detailed evaluation under the National Environmental Policy Act. The proposed use of the land is a compatible land use that will not interfere with or impede the operations and development of the airport. Based on the benefits of fair compensation and enhanced public safety, the interests of civil aviation will be properly served.

Issued in El Segundo, California, on February 11, 2020.
Original signed by:
Brian Q. Armstrong,
Manager, Safety and Standards Branch, Airports Division, Western-Pacific Region.

[FR Doc. 2020-03663 Filed 2-21-20; 8:45 am]

BILLING CODE 4910-13-P